Title 3—

The President

Executive Order 13697 of June 22, 2015

Amendment to Executive Order 11155, Awards for Special Capability in Career and Technical Education

By the authority vested in me as President by the Constitution and the laws of the United States of America, it is hereby ordered that section 2 of Executive Order 11155 of May 23, 1964, as amended by Executive Order 12158 of September 18, 1979, is further amended by adding a new paragraph (6) to read as follows:

“(6) In addition to the Presidential Scholars provided for in paragraphs (3), (4), and (5) of this section, the Commission may choose other Presidential Scholars not exceeding twenty in any one year. These Scholars shall be chosen at large, from the jurisdictions referred to in paragraph (3), on the basis of outstanding scholarship and demonstrated ability and accomplishment in career and technical education fields.”

THE WHITE HOUSE,

June 22, 2015.

[FR Doc. 2015-15828

Filed 6-24-15; 11:15 am]

Billing code 3295-F5